DEPARTMENT OF ENERGY

Federal Energy Regulatory Commission

[Project No. 1864-005]

Upper Peninsula Power Company; Notice of Site Visit

July 10, 2000.

The Federal Energy Regulatory Commission (Commission) has received an application for relicense of the existing Bond Falls Hydroelectric Project No. 1864-005. The Bond Falls Project is located on the Ontonagon River system in the western part of Michigan's Upper Peninsula and a small portion of neighboring Wisconsin, and is owned and operated by Upper Peninsula Power Company (UPPCO).

On June 18, 1996, the Commission issued a notice that the project was ready for environmental analysis. A site visit was held on October 10 and 11, 1995, and scoping meetings were held on January 10 and 11, 1996. A site visit and public meetings to discuss a draft Offer of Settlement were held on May 25 and 26, 1999. Since then the Offer of Settlement has been finalized and the Commission's staff assigned to this project has changed. Therefore, it is necessary that an additional site visit be conducted prior to completion of environmental analysis.

The Commission's staff will visit the project site on Wednesday, July 19 and Thursday, July 20, 2000. The site visit will begin during the early afternoon of July 19 from the parking lot of the AmericInn, Watersmeet, Michigan, and continue on July 20 from the same location. Interested individuals, organizations, and agencies are invited to attend the site visit to gain a better understanding of the existing project. People interested in attending the site visit should provide their own transportation. Please contact the UPPCO representative, Mr. Robert Meyers, at (906) 485-2419 to be included on the site visit and to obtain specific meeting times for July 19 and 20.

If you have any questions please contact Mr. Patrick Murphy at (202) 219-2659.

David P. Boergers,
Secretary.

[FR Doc. 00-17864 Filed 7-13-00; 8:45 am]

BILLING CODE 6717-01-M